FEDERAL ACCOUNTING STANDARDS ADVISORY BOARD

Statement of Federal Financial Accounting and Auditing Technical Release 3; Revised

AGENCY: Federal Accounting Standards Advisory Board

ACTION: Notice.

Notice of Statement of Federal Financial Accounting and Auditing Technical Release 3 (revised), Auditing Estimates for Direct Loan and Loan Guarantee Subsidies Under the Federal Credit Reform Act (Amendments to Technical Release 3: Preparing and Auditing Direct Loan and Loan Guarantee Subsidies Under the Federal Credit Reform Act, and Preparing Estimates for Direct Loan and Loan Guarantee Subsidies Under the Federal Credit Reform Act (Amendments to Technial Release) 3: Preparing and Auditing Direct Loan and Loan Guarantee Subsidies Under the Federal Credit Reform Act).

Board Action: Pursuant to the Federal Advisory Committee Act (Pub. L. No. 92-463), as amended, section 10(a)(2), and the FASAB Rules Of Procedure, as amended in October, 1999, notice is hereby given that the Federal Accounting Standards Advisory Board (FASAB) has issued Statement of Federal Financial Accounting and Auditing Technical Release 3 (revised), Auditing Estimates for Direct Loan and Loan Guarantee Subsidies Under the Federal Credit Reform Act (Amendments to Technical Release 3: Preparing and Auditing Direct Loan and Loan Guarantee Subsidies Under the Federal Credit Reform Act), and Statement of Federal Financial Accounting and Auditing Technical Release 6, Preparing Estimates for Direct Loan and Loan Guarantee Subsidies Under the Federal Credit Reform Act (Amendments to Technical Release 3: Preparing and Auditing Direct Loan and Loan Guarantee Subsidies Under the Federal Credit Reform Act.

Copies of the Statements can be obtained by contacting FASAB at (202) 512-7350 or valentinem@fasab.gov. Additionally, the Statements will be available on FASAB's home page http://www.fasab.gov/.

FOR FURTHER INFORMATION CONTACT: Wendy Comes, Executive Director, 441 G St., NW., Mail Stop 6K17V, Washington, DC 20548, or call (202) 512-7350.

Authority: Federal Advisory Committee Act. Pub. L. No. 92-463.

Dated: January 23, 2004.
Wendy M. Comes,
Executive Director.

[FR Doc. 04-1672 Filed 1-26-04; 8:45 am]

BILLING CODE 1610-01-M